DEPARTMENT OF HEALTH AND HUMAN SERVICES

National Advisory Committee on Seniors and Disasters and National Advisory Committee on Individuals With Disabilities and Disasters Joint Public Meeting

AGENCY: Administration for Strategic Preparedness and Response (ASPR), Department of Health and Human Services (HHS).

ACTION: Notice.

SUMMARY: The National Advisory Committee on Seniors and Disasters (NACSD) and the National Advisory Committee on Individuals with Disabilities and Disasters (NACIDD) will hold a joint public meeting using an online format on Tuesday, September 19, 2023 (1:00 p.m. to 3:00 p.m. ET). Notice of the meeting is required under section 10 (a) (2) of the Federal Advisory Committee Act (FACA). The NACSD and NACIDD provide expert advice and guidance to the U.S. Department of Health and Human Services (HHS) regarding the specific needs of older adults and people with disabilities, respectively, related to disaster preparedness and response. The Administration for Strategic Preparedness and Response (ASPR) manages and convenes the NACSD and the NACIDD on behalf of the Secretary of HHS.

FOR FURTHER INFORMATION CONTACT: Dr. Maxine Kellman, NACSD and NACIDD Designated Federal Official, (202) 260-0447; NACSD@hhs.gov and NACIDD@hhs.gov.

SUPPLEMENTARY INFORMATION:

Procedures for Public Participation: The public and expert stakeholders are invited to observe the meeting. Registration for the Zoom meeting is required. The meeting link to register will be posted on the NACSD and NACIDD websites. Anyone may submit questions and comments to the NACSD and the NACIDD by email (NACSD@hhs.gov and NACIDD@hhs.gov) at least 15 days prior to the meeting. American Sign Language translation and Communication Access Real-Time Translation will be provided. A meeting summary will be available on the NACSD and NACSD websites post meeting.

Dawn O'Connell,
Assistant Secretary for Preparedness and Response.

[FR Doc. 2023-17142 Filed 8-9-23; 8:45 am]

BILLING CODE 4150-37-P